DEPARTMENT OF THE INTERIOR

National Park Service

[NPS-WASO-NAGPRA-NPS0027075]

Notice of Inventory Completion: Tennessee Valley Authority, Knoxville, TN

AGENCY: National Park Service, Interior.

ACTION: Notice.

SUMMARY: The Tennessee Valley Authority (TVA) has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to TVA. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to TVA at the address in this notice by January 22, 2019.

ADDRESSES: Dr. Thomas O. Maher, TVA, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA, Knoxville, TN. The human remains and associated funerary objects were removed from Franklin County, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

From June-August, 1976, human remains representing, at minimum, 122 individuals were removed from the Hester site, 1FR311, in Franklin County, AL. This site was excavated as part of TVA's Cedar Creek Reservoir project by the Alabama Museum of Natural History (AMNH) at the University of Alabama. Excavation commenced after TVA acquired the land encompassing 1FR311 on May 5, 1976, for the Cedar Creek project. Material culture recovered from this site indicates it was primarily occupied during the Middle Woodland Copena phase (AD 100—500). The human remains are of children, juveniles and adults. Most of the human remains were too fragmentary to determine sex. The 105 associated funerary objects are 59 copper beads, 17 pieces of galena, 23 conch shell vessel fragments, three greenstone celts/spades, and three Hillabee schist spades.

From July-August, 1973, human remains representing, at minimum, 81 individuals were removed from the Massey Mound, 1FR520, in Franklin County, AL. This site was excavated as part of TVA's Little Bear Creek reservoir project by the AMNH at the University of Alabama. TVA purchased the land encompassing this site on October 28, 1968.

Site 1FR520 is a mortuary stone mound approximately 30 feet in diameter and two to three feet high situated on a ridge overlooking the confluence of Little Bear Creek and Trace Branch. It was used primarily during the Middle Woodland Lick Creek phase (AD 1—300). The human remains represent infants, juveniles and adults. Most of the human remains were too fragmentary to determine sex. The 26 associated funerary objects are one chert biface, 24 fragments of turtle shell, and one bag of mussel shell fragments.

From August-September, 1977, human remains representing, at minimum, 26 individuals were excavated from the Hendrix site, 1FR562, in Franklin County, AL. This site was excavated as part of TVA's Cedar Creek reservoir project by the AMNH at the University of Alabama. TVA purchased the land encompassing this site on July 28, 1976.

Site 1FR562 is a village site that was occupied primarily during the Late Archaic (4000-1000 B.C.) and Middle Woodland Lost Creek phase (A.D. 500-700). The human remains represent adults, juveniles, children and infants. Most of the human remains were too fragmentary to determine sex. The 45 associated funerary objects are two chert cores, one soil sample, 20 red ochre fragments, 10 bone fragments, two bone billets, four antler tine tools, one bone fid, one bone awl, one piece of ground sandstone, two sandstone bowls and one turtle shell fragment.

From November-December, 1972, human remains representing, at minimum, 178 individuals were removed from the Carpenter Mound, 1FR594, in Franklin County, AL. This site was excavated as part of TVA's Little Bear Creek reservoir project by the AMNH at the University of Alabama. TVA purchased the land encompassing this site on June 12, 1968.

Site 1FR594 is a mortuary stone mound that was primarily used during the Middle Woodland Lick Creek phase (A.D. 1-300). Its “donut shape” is the result of looting. When excavators systematically disassembled this stone mound, they found human remains interspersed among the stone slabs. Some burials appear to have been primary inhumations topped by stone, while others appeared to contain human remains that had been cremated or defleshed elsewhere and then placed among the stones. The excavators did not note any prehistoric habitation adjacent to this stone mound. The human remains represent infants, juveniles and adults. Most of the remains were too fragmentary to determine sex. There are no associated funerary objects.

Determinations Made by the Tennessee Valley Authority

Officials of Tennessee Valley Authority have determined that:

• Pursuant to 25 U.S.C. 3001(9), the human remains described in this notice represent are Native American, based on their presence in prehistoric archeological sites and osteological analysis.

• Pursuant to 25 U.S.C. 3001(9), the human remains described in this notice represent the physical remains of 407 individuals of Native American ancestry.

• Pursuant to 25 U.S.C. 3001(3)(A), the 176 funerary objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; and United Keetoowah Band of Cherokee Indians in Oklahoma.

• The Treaty of September 20, 1816, indicates that the land from which the Native American human remains and associated funerary objects were removed is the aboriginal land of The Chickasaw Nation.

• Pursuant to 43 CFR 10.11(c)(1), the disposition of the human remains and associated funerary objects may be to the Cherokee Nation; Eastern Band of Cherokee Indians; The Chickasaw Nation; and the United Keetoowah Band of Cherokee Indians in Oklahoma. The Cherokee Nation; Eastern Band of Cherokee Indians; and United Keetoowah Band of Cherokee Indians in Oklahoma have declined to accept transfer of control of the human remains.

• Pursuant to 43 CFR 10.11(c)(4), TVA has decided to transfer control of the funerary objects associated with the culturally unidentifiable human remains to The Chickasaw Nation.

Additional Requestors and Disposition

Representatives of any Indian Tribe or Native Hawaiian organization not identified in this notice that wish to request transfer of control of these human remains and associated funerary objects should submit a written request with information in support of the request to Dr. Thomas O. Maher, TVA, 400 West Summit Hill Drive, WT11C, Knoxville, TN 37902-1401, telephone (865) 632-7458, email tomaher@tva.gov, by January 22, 2019. After that date, if no additional requestors have come forward, transfer of control of the human remains and associated funerary objects to The Chickasaw Nation may proceed.

The Tennessee Valley Authority is responsible for notifying The Consulted Tribes that this notice has been published.

Dated: November 28, 2018.
Melanie O'Brien,
Manager, National NAGPRA Program.

[FR Doc. 2018-27708 Filed 12-20-18; 8:45 am]

BILLING CODE 4312-52-P